DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPAA) of 1996. This listing contains the name of each individual losing their United States citizenship (within the meaning of section 877(a) or 877A) with respect to whom the Secretary received information during the quarter ending December 31, 2011.

Last name | First name | Middle name/initials
ADELSON | MELANIE | R
ANDERSON | ALLEN | W
ANDERSON | NANCY | S
ANG | PENG-HUAT |
ANG | RYANNA | JIA-MIN
BARCLAY-GRUNDLER | CURTIS | RICHARD
BARLOW III | CHARLES | BUDFORD
BASSETT-BLAIR | HEIDI |
BASTIANI | ADOLFO |
BEAN | HAROLD | M
BEAUDET | PHILIPPE |
BEAUREGARD | CATHERINE |
BEHLER | ALBERT | P
BERG | SHANE | DAVID
BERGER | THOMAS | JAN
BERNHEIM | ELENA | ROSA
BESSON | MATHIEU | JACQUES PHILIPPE
BHUTANI | JASMINDER | K
BIELBY | CHRISTINE | SARAH JANE
BIELBY | JOHN | HENRY
BINDER | PETER | ERIK PHILLIPPE
BISTRICER | MARC | YEHUDA
BLACK | JENNIFER | MARY-LOUISE
BLAIR | CHRISTOPHER | R
BONNIER | ADAM | F
BOUCHIER | DAVID | IAN
BRACHER | CLAUDIA | RUTH
BRANSCHI | GIAN | RETO
BRICKWOOD | MALCOLM |
BRICKWOOD | SYLVIA |
BROD | IVAN |
BROUWER | PIET |
BUIJTENDORP | ERIK | L
BURGESS | TREVOR | M
BURSTIN | LARRY | MIGUEL REIDER
BYRNE | MARIE | ANN
CAMERON | AUDREY | MAE
CAMPBELL | LYNDSAY |
CAOUETTE | RICHARD |
CARDONA | SUSAN |
CERRONE | GABRIEL | M
CHAN | VIVIENNE | W
CHANG | PAMELA | Y
CHANG | RAYMOND | S
CHANTRE | ALEXANDER | ECKES
CHATEAU | BEATRICE |
CHENG | NICOLE | MIU YEE
CHENG | RAYMOND | SHU SHING
CHIU | MAN | KEI ELAINE
CHIU | MICHAEL | MAN YAT
CHOA | TAK | FUNG DAVID
CHOW | STELLA | ZONG JE
CHRISTEN | BONNIE | WOODWARD
CHRISTIANSON | ERIC | DUANNE
CHUN | MIMI | MEI LOR
COHEN | RAPHAEL | MAYER
COHEN | WILLIAM | ALBERT MAYER
CONNOLLY | WINSTON |
COOKSON | GORDON | POWER
COONEY | JOHN |
CUBAUD | NICOLAS | EDGARD
CUDDY | DAVID | R
CUNNINGHAM | ELENA | RENATA
CUNNINGHAM | JUDITH | A
CUNNINGHAM JR | ALLAN | FRANCIS
CZAPKA | JENNIFER | M
CZAPKA | RICHARD | A
D'ABO | MARYAM |
DAS | SOMA |
DE LA PINTIERE | FRANCOISE |
DE LA PINTIERE | LOUIS |
DE SAINT VINCENT | GERARD | P
DEAN-BREWER | JANET |
DEFAUCONVAL | CHARLES | P M
DEGENSZEJN | DEBORA |
DEL ROSAL | MARIA | C MIRANDA
DEL ROSAL | ROBERTO | RADAMES
DELESSERT | YVES |
DENT-BROCKLEHURST | HENRY | C
DENTINO | VERENA | SYBILLE
DEROSEN | LAURENCE |
DHADUK | GHANSHYAM |
DIMITROVA-POURSAFAR | DESSISLAVA |
DOLFEN | MARC | CHRISTOPHER
DONALDSON | EDWARD | G
DONALDSON | LYNDA |
DUERST | ANN | ELIZABETH
DUQUE | LUIZ | H
DURHAM | CHRISTABEL | MARY
EHRHARDT | STEFAN | CHRISTOPHER
EHRKE-HARF | MARIE | HELENE
EKLUND | CHARLES | A
ELLIOTT | PATRICK |
ERGEN | CHARLES | EDWARD
EUSTACE | CHRISTINA | EMILY
FELIX | NADINE | G
FITZSIMMONS | TREVOR | MORRISON
FLECKENSTEIN | EMILIA |
FLECKENSTEIN | RONALD | PAUL
FONG | JENNIFER |
FONG | RICHARD | CHUN YIU
FONTANA | PETER | THOMAS
FORSTER | CAROLE | A
FORTES | RODRIGO | LOSADA
FOSTER III | ROBERT | PORTER
FOSTER, NEE WIELANDT | DORA |
FOURNIER | JOHN | L
FRANZ | ANGELIKA |
FREEMAN | PETER | FRANCIS
FUENTES | ANGELICA |
FUNG | MAGNUS | MAN KIT
FURTH | JOHANNA | CHARLOTTE
GALE | HYACINTH | SHYAMALA
GALE | WILLIAM | FRANCIS
GALLU | SIMEON |
GARDNER | SARAH |
GAVIN | NANCY | J
GETTY | ANNA | C
GOLDTHWAITE | DANALEE |
GORDON | GILDAD |
GRAF | HANS | MARTIN
GREEN | MICHAEL | N
GREER | JOAN | M
GRETCHEN-PETERS | NANCY |
GRIBBLE | ELIZABETH | M
GRIBBLE | MICHAEL | I
GRIMM | CHRISTOPH |
GRIMM | KATJA |
GROENEN | FRANK |
GRONER | ELIYAHU | DAVID
GRONING | MARC | E
GUNNARSSON | GUNNAR-THOR | BJORNSSON
GUREN-BERMAN | MICHELE | ANNE
GUTZWILLER | FIONA | MARIA
GUTZWILLER | NICOLE | SYLVIA
GUTZWILLER | NINA | GEORGIA
HACHE | JEAN-MICHEL |
HADDAD-KOENIG | CHARLES |
HAEBERLING-PFENNINGER | KATHARINA | ESTHER
HANES | ROLF | ARTHUR
HANSSON | KARL | STEFAN
HARPER-VANDAMME | BRENDA | CHRISTIAN
HARVEY | BRUCE | E
HARVEY | RALPH | DIETER
HASLER | PASCAL | ERIC
HAXELL | IAN |
HERNE | DAVID | ALEXANDER
HERRING | MARIO | T
HERRMANN | MARTINE | SYLVIE
HESS | CLINTON | A
HILLIARD | ELAINE | GARDINER WELCH
HO | LESLIE | SAI KIT
HOCHHEIMER | SUZANNE | TRUDY
HOLUB | BARBARA | RENE
HRYNIUK | LYNN | E
HRYNIUK | WILLIAM |
HUSTON | JULIEN | VINCENT C
HUTTON | MICHAEL | L
HUYNH | HENRY |
IRVINE | LESLEY | ELIZABETH
JACQUES | BENOIT |
JAN | YAHYA |
JAUW | JANIE | APRIL
JOWITT | JANET | GARBARINO
KATO | HIROMITSU |
KELLENBERGER | LISA | J
KELLENBERGER | PIERRE |
KELLERMANN | GOTTFRIED | HEINRICH
KHATTAB | MOHAB | T
KINDLE | MARION | VANESSA
KINZEL | CAROLINE | J
KNOX | ROBERT | JAY
KOMMULA | VENKATA |
KOSTERS | OLGA |
KRALL | TANJA | SILVIE
KROPF | MICHAEL | DAVID
KUEMPER | THORSTEN |
KULLMAN | ANNAKARIN | LINA
KWANG | SIMON | C
KWONG | CHU | TONG
LA VANCE | MONIQUE |
LABELLE | JULIE | A
LEE | HYANGLY |
LEE | PETER | WAI LING
LEE | YAT | HUNG
LELAND | JACQUELINE |
LEMOS | MICHAEL |
LERVIK | ANNE | SOPHIE LORANGE
LEWICKI | PAWEL | M
LIN | HSIAO-CHUAN |
LIPPER | NAOMI | ISHIDO
LOMP | CHANA | MIRIAM
LORANGE | PER | FRITHJOF
LOSADA JR | ANGEL |
LOURO | BENTO | J
LU | LI | MIN
LUBENEC | STEPHANE |
MANEVICH | CESAR |
MANEVICH | SARAH |
MARSDEN | RENATE | B
MARTIN | KENNETH |
MARTINET | CHANTAL | VICTOIRE PORTER
MASTERS | MICHAEL | WENDELIN
MCCRAY | SANDRA |
MCFADYEN | LISA | M
MCFADYEN | MICHAEL | K
MCGOWAN | EILEEN |
MCGRAIL | ELAINE |
MCKENZIE | BRUCE | D
MCKENZIE | MARILYN | I
MCLEISH | DAVID | E
MCLEISH | NATALIE | C
MELCHIORRI | CRISTINA | MARIA
MERCADO | LEANNE |
MERCIER | GUY | H
MILANO | MIGUEL |
MILLER | RALPH | WILLIAM
MINNETIAN | OHANNES | MARGOS
MINTY | FATIMA |
MINTY | MUHAMMED |
MIONE | LAN | ZHOU
MIRANDA | MARIA | C
MISRA | SOM | A
MODE | JUTTA | E
MORLAND | GUISLAINE | VINCENT
MURPHY | MICHAEL | N
MURRAY | MURRAY | J
MUSIL | ANDREA |
NAGATA | HIROKO |
NEEMAN | KEREN |
NEEMAN | YOEL |
NEVILLE-GALVIN | MARIAN | G
NIEMANN | CHRISTOPH |
NISHIMURA | YOSHIHARU |
NIZET | ANDRE |
NOORPURI | MARUF | H KHAN
OERTLI | KATHARINA | E
OOMS | EDWIN |
ORF | ROGER | GERARD
ORTEGA | JAMES | ADRIAN
PASSERELLE | NARIKO |
PATON | CHARLES | R MATTHEW
PAVAGEAU | BENJAMIN |
PEDERCINI | PIERANTONIO |
PEPPER | MARK | E
PETERS | DOUG |
PFENNINGER | ROLF | ALAN
PHILLIPS | OWEN | MARTIN
PIRCHER | BETTY |
PIRCHER | PETER | A
PISTOR | LUDGER |
PLAZ | ERIKA | MARIA
PRATT | HELENE | J
PUERTA-GARCIA | FRANCISCO | JAVIER
QUILTY | ROBERT | F
RASKA | ROXANA |
RASMUSSEN | PATRICIA | CAROL MACKAY
REED | KUN | TIN
REIDER | LARRY | MIGUEL
REUTIMANN | BRIAN |
ROBBINS | CHRISTOPHER | J
ROSSIANOL | STEPHANIE | J
ROUNDELL | CANDICE | DAWN GAELIE
RUDELOFF | THOMAS | RUSSELL
RUEBSAMEN | MARGUERITE | ANNABELLE
SABO | DEAN |
SABO | TIMOTHY | J
SACKS | YAAKOV | E
SAITO | MIEKO |
SAITO | TAIJI |
SANDFORT | HORST | G
SARAN | PHILLIP | HOWARD HASENFUS
SAYE | GALINA | K
SCHAELLIBAUM-PFENNINGER | ISABEL | ANN
SCHLATTER | TENIE | MCCUTCHEN
SCHNORR | KIRK | MATTHEW
SCOTT | JUNE | E
SCOTT | ROBERT | P
SEKAR | SEKAR | VISWANATHAN
SEVERGNINI | MADDALENA | JOHNS
SHAH | PARI |
SHAH | SEETA | VISHAL
SHERRINGTON | YVONNE | ROSE
SHIOMI | MAKOTO |
SHONHAN | ROSS | LEIGH
SHOSTAK | LISA | CLARE
SIM | ANDREW | YUN WEN
SIMS | CHARLES | R
SIMS | JULIA | I
SIMS | LAURIE | E
SMIRIN | SUSAN | A
SNG | DANIEL | E K
SOBOCINSKI | SOPHIE | EVE
SOBOCINSKI | THOMAS | CHARLES
SPEYER | MICHEL | HENRI HONORE
STABBERT | KAREN | GAYLE
STASSINOPOULOS | ELIAS | NICHOLAS
STEAR | GUY | BENEDICT
STENBECK | DESTINY | SOPHIA
STEPHENS | GARY | LEE
STRANDE | MAJA | V
STUCKI | VERA | C
SUFALKO | FRANK | BENJAMIN
SUH | MARION |
SUN | CHUEN | YOUNG
SUZUKI | RYOKO |
SUZUKI | YOSHIKATSU |
SWEET | ROBERT | BENJAMIN
SWEETBAUM | JAMES | WM
TAGAMI | MARIKO | K
TAKEUCHI | ERIKA |
TAN | AH-SWAT |
TAN | YEW | KHUAN
TANG | MISI |
TANNER | DAVID | A
TANNER | JACQUELINE | A
TAUSCH | HENRI |
TEO | AVERY |
THOMSON | MIRIAM | SUSAN
THOMSON | STEPHEN | DAVID
TIMASHEV | ANTON | RATMIROVICH
TOBIN | HANNAH | F
TRESHAM | WILLIAM | R
TROMP-PLAZ | DANIELA | GABRIELA
TROYAN | BORIS | MICHAEL
TURVEY | NICHOLAS |
ULEMAN | PAULUS | A
VALE | DEBORAH |
VERKHOVSKY | ALEXANDER |
VERLINDEN | PIERRE | JACQUES
VIEGAS | RENZO | C
VON SCHWARC | HENRY | MORAVIA
VON TRENTINI | FLORIAN |
WALKER | ANNABELLE | CLAUDINE
WATERS | KARIN | DENISE
WEBER | KAREL | ZDENEK
WHIITEHEAD | ELLIS | WINSTON
WIDMER | HANS |
WIEDERKEHR | STEPHAN | PETER
WITTICH | GUNTER |
WOHLGROTH | LESLIE | SHEILA
WOHLGROTH | LUISA | BARONI
WONG | PETER | K
WOODS | JOHN | PAUL
WRIGHT | JOHN | FRANKLIN
WUTHRICH | BERNHARD | ANDREW
WYATT | GUILLAUME | PASCAL
YAMADA | SETSUKO |
YAMADA | TAKESHI |
YANG | MELODY |
YEUNG | DING | FONG
YEUNG | ERIC | CHUNG-KIT
YEUNG | GERALD | K
YOSHINO | CHIYOKO | O
YOSHINO | MICHAEL | Y
YU | VINCENT | HOK YAN
ZEITZ | LISA |
ZEKRYA | DAOUD |
ZHU | MAIYUIN | PANG
ZULLIGER | MARTIN | A

Dated: January 13th, 2012.
Ann V. Gaudelli,
Manager Team 103, Examinations Operations—Philadelphia Compliance Services.

[FR Doc. 2012-2258 Filed 2-1-12; 8:45 am]

BILLING CODE 4830-01-P